DEPARTMENT OF TRANSPORTATION

Federal Aviation Administration

14 CFR Part 39

[Docket No. 2002-NM-223-AD]

RIN 2120-AA64

Airworthiness Directives; Fokker Model F.28 Mark 0070 and 0100 Series Airplanes

AGENCY: Federal Aviation Administration, DOT.

ACTION: Notice of proposed rulemaking (NPRM).

SUMMARY: This document proposes the supersedure of an existing airworthiness directive (AD), applicable to certain Fokker Model F.28 Mark 0070 series airplanes, that currently requires a one-time inspection to detect loose bolts attaching the gustlock counter-bracket to the pulley on the elevator tension regulator (control) assembly, and corrective action if necessary. This action would instead require a modification of the elevator tension control mechanism. This action would also revise the applicability to include additional airplanes. The actions specified by the proposed AD are intended to prevent restricted elevator movement and consequent reduced controllability of the airplane. This action is intended to address the identified unsafe condition.

DATES: Comments must be received by May 17, 2004.

ADDRESSES: Submit comments in triplicate to the Federal Aviation Administration (FAA), Transport Airplane Directorate, ANM-114, Attention: Rules Docket No. 2002-NM-223-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-223-AD” in the subject line and need not be submitted in triplicate. Comments sent via the Internet as attached electronic files must be formatted in Microsoft Word 97 or 2000 or ASCII text.

The service information referenced in the proposed rule may be obtained from Fokker Services B.V., P.O. Box 231, 2150 AE Nieuw-Vennep, the Netherlands. This information may be examined at the FAA, Transport Airplane Directorate, 1601 Lind Avenue, SW., Renton, Washington.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-223-AD.” The postcard will be date stamped and returned to the commenter.

Availability of NPRMs

Any person may obtain a copy of this NPRM by submitting a request to the FAA, Transport Airplane Directorate, ANM-114, Attention: Rules Docket No. 2002-NM-223-AD, 1601 Lind Avenue, SW., Renton, Washington 98055-4056.

Discussion

On May 3, 2000, the FAA issued AD 2000-09-11, amendment 39-11720 (65 FR 30529, May 12, 2000), for certain Fokker Model F.28 Mark 0070 series airplanes. That AD currently requires a one-time inspection to detect loose bolts attaching the gustlock counter-bracket to the pulley on the elevator tension regulator (control) assembly, and corrective action if necessary. That action was prompted by issuance of mandatory continuing airworthiness information by the Civil Aviation Authority—The Netherlands (CAA-NL), which is the airworthiness authority for the Netherlands. At that time, only airplanes manufactured after a certain change in the production process were subject to the identified unsafe condition. The requirements of AD 2000-09-11 are intended to prevent restricted elevator movement and consequent reduced controllability of the airplane.

Actions Since Issuance of Previous Rule

Since that AD was issued, the CAA-NL reported that further investigation of the subject bolts revealed an oversize grip length. The manufacturer has since developed a modification to address the problem and obviate the need for the inspection and inadequate associated corrective action. Further, it has been determined that the identified unsafe condition may also exist on certain Fokker Model F.28 Mark 0100 series airplanes. The limited range of elevator deflection resulting from the oversize bolts, if not corrected, could result in restricted elevator movement and consequent reduced controllability of the airplane.

Explanation of Relevant Service Information

Fokker Services B.V. has issued Service Bulletin SBF100-27-081 and Component Service Bulletin D78179-27-017, both dated January 1, 2002. The service bulletins describe procedures for modifying the elevator tension control mechanism. The modification involves replacing a bolt in the adjuster bracket with a bolt having a shorter grip length, which is intended to improve its clamping capability. Accomplishment of the actions specified in either service bulletin is intended to adequately address the identified unsafe condition. The CAA-NL classified the service bulletins as mandatory and issued Dutch airworthiness directive 2002-058, dated April 29, 2002, to ensure the continued airworthiness of these airplanes in the Netherlands.

FAA's Conclusions

These airplane models are manufactured in the Netherlands and are type certificated for operation in the United States under the provisions of § 21.29 of the Federal Aviation Regulations (14 CFR 21.29) and the applicable bilateral airworthiness agreement. Pursuant to this bilateral airworthiness agreement, the CAA-NL has advised us of the situation described above. We have examined the findings of the CAA-NL, reviewed all available information, and determined that AD action is necessary for products of this type design that are certificated for operation in the United States.

Explanation of Requirements of Proposed Rule

Since an unsafe condition has been identified that is likely to exist or develop on other airplanes of the same type design registered in the United States, the proposed AD would supersede AD 2000-09-11 to require modification of the elevator tension control mechanism.

Change in Labor Rate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

This proposed AD would affect about 75 airplanes of U.S. registry. The proposed actions would take about 1 work hour per airplane, at an average labor rate of $65 per work hour. Required parts would be provided to operators at no cost. Based on these figures, the cost impact of the proposed AD on U.S. operators is estimated to be $4,875, or $65 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11720 (65 FR 30529, May 12, 2000), and by adding a new airworthiness directive (AD), to read as follows:

Fokker Services B.V.: Docket 2002-NM-223-AD. Supersedes AD 2000-09-11, Amendment 39-11720.

Applicability: Model F.28 Mark 0070 and 0100 series airplanes, certificated in any category, equipped with elevator tension control assemblies having any part number (P/N) D78179-405, -407, -409, -411, or 413.

Compliance: Required as indicated, unless accomplished previously.

To prevent restricted elevator movement and consequent reduced controllability of the airplane, accomplish the following:

Modification

(a) Within 18 months after the effective date of this AD, modify the elevator tension control mechanism in accordance with the Accomplishment Instructions of Fokker Service Bulletin SBF100-27-081, dated January 1, 2002; or Fokker Component Service Bulletin D78179-27-017, dated January 1, 2002.

Parts Installation

(b) As of the effective date of this AD, no person may install an elevator tension control assembly on any airplane, unless the assembly has been modified and reidentified in accordance with the requirements of this AD.

Alternative Methods of Compliance

(c) In accordance with 14 CFR 39.19, the Manager, International Branch, ANM-116, FAA, Transport Airplane Directorate, is authorized to approve alternative methods of compliance for this AD.

Note 1: The subject of this AD is addressed in Dutch airworthiness directive 2002-058, dated April 29, 2002.

Issued in Renton, Washington, on April 1, 2004.
Kalene C. Yanamura,
Acting Manager, Transport Airplane Directorate, Aircraft Certification Service.

[FR Doc. 04-8538 Filed 4-14-04; 8:45 am]

BILLING CODE 4910-13-P